DEPARTMENT OF COMMERCE

Foreign-Trade Zones Board

(Docket 48-2005)

Foreign-Trade Zone 57 Charlotte, NC, Application for Subzone(Thermal Media and Digital Printer Cartridges and Components), Concord, North Carolina

An application has been submitted to the Foreign-Trade Zones Board (the Board) by the North Carolina Department of Commerce, grantee of FTZ 57, requesting special-purpose subzone status for the thermal media and digital printer cartridge and components manufacturing facility of DNP IMS America Corporation (DNP), a subsidiary of Dai Nippon Printing Company, Ltd., in Concord, North Carolina. The application was submitted pursuant to the provisions of the Foreign-Trade Zones Act, as amended (19 U.S.C. 81a-81u), and the regulations of the Board (15 CFR part 400). It was formally filed on September 30, 2005.

The DNP facility (1 building, 103,550 sq. ft. on 14.7 acres) is located at 4524 Enterprise Drive, NW, in the International Business Park, Concord (Cabarrus County), North Carolina. The DNP plant (115 employees) would be used initially under FTZ procedures for slitting of master rolls of thermal transfer ribbon (TTR) and sublimation transfer ribbon (STR) and the assembly of digital printer cartridges and components, and warehousing and distribution of these products.

For DNP's current manufacturing, foreign-sourced materials account for some 70 to 96 percent of finished product value. The application lists STR and TTR master rolls, finished STR ribbon, photographic paper and STR printer components (HTSUS categories 3702.39, 3702.42, 3702.44, 3703.20.60 and 8473.30 - duty-free to 3.7%) as the primary material inputs which may be sourced from abroad.

Zone procedures would exempt DNP from Customs duty payments on foreign materials used in export production. Some eight percent of the plant's shipments are currently exported. On domestic sales, the company would be able to choose the lower duty rate that applies to the finished printer cartridges (HTSUS 8473.30, duty-free), rather than the duty rates that would otherwise apply to its foreign-sourced inputs noted above. On domestic sales of its other foreign-origin items, DNP would be able to defer duty until the products are shipped from its facility. The company would also be able to transfer STR products to other FTZs under zone procedures. Additionally, DNP would be able to avoid duty on foreign inputs which become scrap/waste, estimated at 9% of FTZ-related savings. It may also realize logistical/procedural and other benefits from subzone status. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is December 12, 2005. Rebuttal comments in response to material submitted during the foregoing period may be submitted during the subsequent 15-day period (December 27, 2005).

A copy of the application and accompanying exhibits will be available for public inspection at the Office of the Foreign-Trade Zones Board's Executive Secretary at address Number 1 listed above, and at the U.S. Department of Commerce Export Assistance Center, 521 East Morehead Street, Suite 435, Charlotte, NC 28202.

Dated: October 4, 2005.
Dennis Puccinelli,
Executive Secretary.

[FR Doc. 05-20449 Filed 10-11-05; 8:45 am]

BILLING CODE 3510-DS-S